POSTAL REGULATORY COMMISSION

[Docket Nos. CP2011-55; Order No. 633]

New Postal Product

AGENCY: Postal Regulatory Commission.

ACTION: Notice.

SUMMARY: The Commission is noticing a recently-filed Postal Service request to add an additional Global Reseller Expedited Package contract to the competitive product list. This notice addresses procedural steps associated with the filing.

DATES: Comments are Due: January 10, 2011.

ADDRESSES: Submit comments electronically via the Commission's Filing Online system at http://www.prc.gov. Commenters who cannot submit comments electronically should contact the person identified in the FOR FURTHER INFORMATION CONTACT section for advice on filing alternatives.

FOR FURTHER INFORMATION CONTACT: Stephen L. Sharfman, General Counsel, at stephen.sharfman@prc.gov or 202-789-6824.

SUPPLEMENTARY INFORMATION:

Table of Contents

I. Introduction

II. Notice of Filing

III. Ordering Paragraphs

I. Introduction

On December 28, 2010, the Postal Service filed a notice announcing that it intends to enter into an additional Global Reseller Expedited Package (GREP) contract.¹ The Postal Service noted that:

¹ Notice of United States Postal Service of Filing a Functionally Equivalent Global Reseller Expedited Package Negotiated Service Agreement and Application For Non-Public Treatment of Materials Filed Under Seal, December 28, 2010 (Notice).

Although both parties have yet to sign the agreement filed in this docket, the course of negotiations and the timing of this filing in relation to other filings have led the Postal Service to submit the agreement in its present state. The agreement is expected to be executed soon. The Postal Service will supplement this filing once the agreement is executed, and will advise of any substantive changes to the text.

Notice at 1 n.2. The Postal Service filed the executed contract on December 29, 2010.² The Postal Service believes that the instant contract is functionally equivalent to the previously submitted GREP contract, and is supported by Governors' Decision No. 10-1, attached to the Notice and originally filed in Docket No. CP2010-36. Id. at 1, Attachment 3. The Notice explains that Order No. 445, which established GREP Contracts 1 as a product, also authorized functionally equivalent agreements to be included within the product, provided that they meet the requirements of 39 U.S.C. 3633. Id. at 1-2. Additionally, the Postal Service requested to have the contract in Docket No. CP2010-36 serve as the baseline contract for future functional equivalence analyses of the GREP Contracts 1 product.

² Notice of the United States Postal Service of Filing a Signed Global Reseller Expedited Package Negotiated Service Agreement, December 29, 2010 (Signed Contract Notice).

The instant contract. The Postal Service filed a draft contract in this case pursuant to 39 CFR 3015.5 with its Notice. The Postal Service then filed the fully executed contract one day later. The Postal Service contends that the contract is in accordance with Order No. 445. The term of the contract is currently set at 5 calendar years from the date the Postal Service notifies the customer that it is willing to accept mail under the contract terms and all necessary regulatory approvals have been received. Signed Contract Notice, Attachment 1 at 8. The contract start date may be no earlier than February 17, 2011. The contract may also be terminated by either party on not less than 30 days' written notice. Id.

In support of its Notice, the Postal Service filed four attachments as follows:

• Attachment 1—a redacted copy of the draft contract and an applicable annex; ³

³ The fully executed contract was filed as Attachment 1 to the Signed Contract Notice.

• Attachment 2—a certified statement required by 39 CFR 3015.5(c)(2);

• Attachment 3—a redacted copy of Governors' Decision No. 10-1 which establishes prices and classifications for GREP contracts, a description of applicable GREP contracts, formulas for prices, an analysis of the formulas, and certification of the Governors' vote; and

• Attachment 4—an application for non-public treatment of materials to maintain redacted portions of the contract and supporting documents under seal.

The Notice advances reasons why the GREP contract fits within the Mail Classification Schedule language for GREP Contracts 1. The Postal Service identifies customer-specific information and general contract terms that distinguish the contract from the baseline GREP agreement. It states that the contract differs from the contract in Docket No. CP2010-36 pertaining to customer-specific information, e.g., customer's name, address, representative, signatory, term, provisions for mail tender options, applicable discounts, notice of postage changes, minimum revenue, as well as several other conditions. Id. at 4-6. The Postal Service states that the differences, which include price variations based on updated costing information, do not alter the contract's functional equivalency. Id. at 3-4. The Postal Service asserts that “[b]ecause the agreement incorporates the same cost attributes and methodology, the relevant characteristics of this GREP contract are similar, if not the same, as the relevant characteristics of the contract filed in Docket No. CP2010-36.” Id. at 4.

The Postal Service concludes that its filings demonstrate that the new GREP contract complies with the requirements of 39 U.S.C. 3633 and is functionally equivalent to the baseline GREP contract. It states that the differences do not affect the services being offered or the fundamental structure of the contract. Therefore, it requests that the instant contract be included within the GREP Contracts 1 product. Id. at 6.

II. Notice of Filing

The Commission establishes Docket No. CP2011-55 for consideration of matters related to the Postal Service's Notice and Signed Contract Notice.

Interested persons may submit comments on whether the Postal Service's filings are consistent with the policies of 39 U.S.C. 3632, 3633, or 3642 no later than January 10, 2011. The public portions of these filings can be accessed via the Commission's Web site (http://www.prc.gov).

The Commission appoints Paul L. Harrington to serve as Public Representative in the above-captioned proceeding.

III. Ordering Paragraphs

It is ordered:

1. The Commission establishes Docket No. CP2011-55 for consideration of matters raised by the Postal Service's Notice and Signed Contract Notice.

2. Comments by interested persons in this proceeding are due no later than January 10, 2011.

3. Pursuant to 39 U.S.C. 505, Paul L. Harrington is appointed to serve as the officer of the Commission (Public Representative) to represent the interests of the general public in this proceeding.

4. The Secretary shall arrange for publication of this order in the Federal Register.

By the Commission.
Shoshana M. Grove,
Secretary.

[FR Doc. 2010-33315 Filed 1-4-11; 8:45 am]

BILLING CODE 7710-FW-P